DEPARTMENT OF AGRICULTURE

Office of Partnerships and Public Engagement

Advisory Committee on Beginning Farmers and Ranchers

AGENCY: Office of Partnerships and Public Engagement (OPPE), U.S. Department of Agriculture (USDA).

ACTION: Announcement of public meeting of the Advisory Committee on Beginning Farmers and Ranchers (ACBFR).

SUMMARY: Pursuant to the Federal Advisory Committee Act (FACA) and rules and regulations of the USDA, the Office of Partnership and Public Engagement (OPPE) announces a meeting of the Advisory Committee on Beginning Farmers and Ranchers (ACBFR). The purpose of the ACBFR meeting is to deliberate upon matters concerning beginning farmers and ranchers that provide advice and recommendations through OPPE for the Secretary.

During this public meeting, the ACBFR will deliberate upon matters focused on, including but not limited to, the following: (A) The development of the program of coordinated assistance to qualified beginning farmers and ranchers under section 309(i) of the Consolidated Farm and Rural Development Act; (B) methods of maximizing the number of new farming and ranching opportunities created through the program; (C) methods of encouraging States to participate in the program; (D) the administration of the program; and E) other methods of creating new farming or ranching opportunities.

The most up-to-date agenda details and documents will be made available to the public before and after the meeting at: https://www.outreach.usda.gov/committees/ACBFR.htm.

DATES: The ACBFR meeting will be held on Monday, March 16, 2020, at 9:00 a.m.to 5:00 p.m. (Eastern Time Zone).

ADDRESSES:

(a) Attendance in-person: Omni Louisville Hotel, Olmstead Ballroom 4, 400 S 2nd Street, Louisville, Kentucky 40202

(b) Public Call Information—Listen Only: Dial: 866-816-7252 Conference ID: 6188761

(c) Comments may be sent to: ACBeginningFarmersandRanchers@usda.gov

FOR FURTHER INFORMATION CONTACT: Designated Federal Officer (DFO) Maria Goldberg, OPPE, 202-720-6350, or email: maria.goldberg@usda.gov.

SUPPLEMENTARY INFORMATION: Members of the public are entitled to make comments during the public comment session. Commenters will be allowed a maximum of three minutes and will be scheduled on a first-come basis. If the number of persons requesting to speak is greater than what can be reasonably accommodated during the scheduled open public meeting timeframe; written comments may be submitted.

Written comments for the Committee's consideration may be submitted to Ms. Maria Goldberg, Designated Federal Officer, USDA OPPE, 1400 Independence Avenue, Room 533-A, Washington, DC 20250-0170; Fax (202) 720-7136; or email: ACBeginningFarmersandRanchers@usda.gov. Written comments must be received by OPPE within 30 days after the scheduled meeting.

Meeting Accommodations: USDA is committed to ensuring that all persons are included in our programs and events. If you are a person with a disability and require reasonable accommodations to participate in this meeting, please contact Maria Goldberg, 202-720- 6350 or email: maria.goldberg@usda.gov.

Dated: February 27, 2020.
Cikena V. Reid,
Committee Management Officer.

[FR Doc. 2020-04383 Filed 3-3-20; 8:45 am]

BILLING CODE P